DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m. to 6 p.m. EST, February 11, 2009; 8 a.m. to 1 p.m. EST, February 12, 2009.

Place: Centers for Disease Control and Prevention, 2500 Century Parkway, Atlanta, Georgia 30345.

Status: Open to the public, limited only by the space available.

Purpose: The mission of the Task Force is to develop and publish the Guide to Community Preventive Services (Community Guide), which consists of systematic reviews of the best available scientific evidence and associated recommendations regarding what works in the delivery of essential public health services.

Topics include:

—Update: Home Visits to Increase Vaccination Coverage in Children, Adolescents, and Adults

—Update: Vaccination Programs in WIC Settings to Increase Vaccination Coverage in Children, Adolescents, and Adults

—Group-based Interventions to Prevent Adolescent Pregnancy, HIV, other Sexually Transmitted Infections

—Asthma Home Visits Economic Evaluation Review

—-Effects of Policies Restricting Hours of Alcohol Sales on Excessive Alcohol Consumption and Related Harms

—Population Levels of Alcohol Consumption Are a Good Indicator of Excessive Alcohol Consumption and Related Harms

—Update: Health Marketing Review

—Update on the Community Guide Website

—Introduction of the new Youth Development Review

Agenda items are subject to change as priorities dictate.

Persons interested in reserving a space for this meeting should call Charmen Crawford at 404.498.2498.

Contact person for additional information: Charmen Crawford, Coordinating Center for Health Information and Services, National Center for Health Marketing, Office of the Director, 1600 Clifton Road, M/S E-69, Atlanta, GA 30329, phone: 404.498.2498.

Dated: January 27, 2009.
James D. Seligman,
Chief Information Officer, Centers for Disease Control and Prevention.

[FR Doc. E9-2300 Filed 2-3-09; 8:45 am]

BILLING CODE 4163-19-P